DEPARTMENT OF HEALTH AND HUMAN SERVICES

National Institutes of Health

Notice of a meeting of a working group of the NIH Blue Ribbon Panel

The purpose of this notice is to inform the public about a meeting of the NIH Blue Ribbon Panel to Advise on the Risk Assessment of the National Emerging Infectious Diseases Laboratories at Boston University Medical Center.

The meeting will be held Wednesday, November 2, 2011, at the Hyatt Regency Bethesda, 7400 Wisconsin Avenue, Bethesda, MD 20814 from approximately 8:30 a.m. to 4:30 p.m.

This meeting is the fourth in a series of public meetings to review and discuss the ongoing supplementary risk assessment study being conducted for the Boston University NEIDL. The National Research Council Committee on Technical Input will participate in this discussion and provide its views.

Public comment will begin at approximately 4 p.m. In the event that time does not allow for all those interested to present oral comments, anyone may file written comments by sending them to the address below. Comments should include the name, address, telephone number and when applicable, the business or professional affiliation of the commenter.

The meeting will be open to the public, with attendance limited to space available. There will be a live webcast of the meeting which can be accessed at http://nihblueribbonpanel-bumc-neidl.od.nih.gov/. Individuals who plan to attend and need special assistance, such as sign language interpretation or other reasonable accommodations, should notify the Contact Person listed below in advance of the meeting.

A draft agenda and slides for the meeting may be obtained by connecting to http://nihblueribbonpanel-bumc-neidl.od.nih.gov/. For additional information concerning this meeting, contact Ms. Kelly Fennington, Senior Health Policy Analyst, Office of Biotechnology Activities, Office of Science Policy, Office of the Director, National Institutes of Health, 6705 Rockledge Drive, Room 750, Bethesda, MD 20892-7985; telephone 301-496-9838; e-mail fennington@nih.gov.

Dated: September 27, 2011.
Amy P. Patterson,
Director, Office of Science Policy, National Institutes of Health.

[FR Doc. 2011-25733 Filed 10-4-11; 8:45 am]

BILLING CODE 4140-01-P